DEPARTMENT OF COMMERCE

Foreign-Trade Zones Board

[Order No. 2152]

Designation of New Grantee; Foreign-Trade Zone 47; Boone County, Kentucky

Pursuant to its authority under the Foreign-Trade Zones Act of June 18, 1934, as amended (19 U.S.C. 81a-81u), the Foreign-Trade Zones Board (the Board) adopts the following Order:

The Foreign-Trade Zones (FTZ) Board (the Board) has considered the application (docketed June 20, 2023) submitted by the Greater Cincinnati Foreign Trade Zone, Inc., grantee of FTZ 47, requesting reissuance of the grant of authority for said zone to the Northern Kentucky Foreign Trade Zone, Inc., which has accepted such reissuance subject to approval by the FTZ Board. Upon review, the Board finds that the requirements of the FTZ Act and the Board's regulations are satisfied, and that the proposal is in the public interest.

Therefore, the Board approves the application and recognizes the Northern Kentucky Foreign Trade Zone, Inc. as the new grantee for Foreign-Trade Zone 47, subject to the FTZ Act and the Board's regulations, including section 400.13.

Dated: September 27, 2023.
Lisa W. Wang,
Assistant Secretary for Enforcement and Compliance, Alternate Chairman, Foreign-Trade Zones Board.

[FR Doc. 2023-21826 Filed 10-2-23; 8:45 am]

BILLING CODE 3510-DS-P